FEDERAL COMMUNICATIONS COMMISSION

47 CFR Part 73

[DA 00-543; MM Docket No. 00-41, RM-9369]

Radio Broadcasting Services; Oakville, Raymond and South Bend, WA

AGENCY: Federal Communications Commission.

ACTION: Proposed rule.

SUMMARY: The Commission requests comments on a petition filed by Jodesha Broadcasting, Inc., proposing the reallotment of Channel 249C1 from Raymond to Oakville, Washington, and the modification of Station KFMY(FM)'s license accordingly; the reallotment of Channel 289C2 from South Bend to Raymond, Washington, and the modification of Station KJET(FM)'s license accordingly; and the allotment of Channel 300A at South Bend, Washington. Channel 249C1 can be reallotted to Oakville in compliance with the Commission's minimum distance separation requirements with respect to all domestic allotments at petitioner's requested site. The coordinates for Channel 249C1 at Oakville are 46-57-14 North Latitude and 123-29-21 West Longitude. See Supplementary Information, infra.

DATES: Comments must be filed on or before May 1, 2000, reply comments on or before May 18, 2000.

ADDRESSES: Federal Communications Commission, Washington, DC 20554. In addition to filing comments with the FCC, interested parties should serve the petitioner, or its counsel or consultant, as follows: David Tillotson, Esq., 4606 Charleston Terrace, NW., Washington, DC 20007 (Counsel for Petitioner).

FOR FURTHER INFORMATION CONTACT: Sharon P. McDonald, Mass Media Bureau, (202) 418-2180.

SUPPLEMENTARY INFORMATION: This is a synopsis of the Commission's Notice of Proposed Rule Making, MM Docket No. 00-41, adopted March 1, 2000, and released March 10, 2000. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Additionally, Channel 289C2 can be allotted to Raymond with a site restriction of 27 kilometers (16.8 miles) north at petitioner's requested site; and Channel 300A can be allotted to South Bend with a site restriction of 3.5 kilometers (2.2 miles) southwest to avoid a short-spacing to licensed sites of Station KNDD(FM), Channel 299C, Seattle, Washington, and Station KHPE(FM), Channel 300C, Albany, Oregon. The coordinates for Channel 289C2 at Raymond are 46-55-53 North Latitude and 123-44-02 West Longitude; and the coordinates for Channel 300A at South Bend are 46-38-19 North Latitude and 123-49-54 West Longitude. Since Oakville, Raymond, and South Bend are located with 320 kilometers of the U.S.-Canadian border, concurrence of the Canadian government has been requested, with concurrence of the Oakville allotment requested as a specially negotiated, short-spaced allotment. In accordance with the provisions of Section 1.420(i) of the Commission's Rules, we will not accept competing expressions of interest in the use of Channel 249C1 at Oakville, Washington, or Channel 289C2 at Raymond, Washington.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-7258 Filed 3-23-00; 8:45 am]

BILLING CODE 6712-01-P